DEPARTMENT OF AGRICULTURE

Forest Service

Scriver Creek Integrated Restoration Project, Boise National Forest, ID

AGENCY: Forest Service, USDA.

ACTION: Notice of intent to prepare Environmental Impact Statement.

SUMMARY: The Emmett Ranger District of the Boise National Forest will prepare an environmental impact statement (EIS) for a resource management project in the Scriver Creek drainage. The entire project area is located in watersheds that drain into the Middle Fork Payette River. The 11,500-acre project area is located approximately 6 miles north of Crouch, Idaho.

The agency invites written comments and suggestions on the scope of the analysis. The agency also hereby gives notice of the environmental analysis and decisionmaking process that will occur on the proposal so interested and affected people are aware of how they may participate and contribute to final decision. At this time, no public meetings to discuss the project are planned.

Proposed Action: Three purposes have been identified for the project: (1) Modify stand density, structure, species composition, and surface fuels to restore suitable white-headed woodpecker and flammulated owl habitat, in addition to providing forest conditions that are more resistant to insects, disease and wildfire; (2) initiate watershed restoration within the Scriver Creek 6th Field hydrologic unit (subwatershed) to improve watershed conditions and reduce long-term sedimentation caused by existing roads, in addition to reducing road-related impacts to wildlife, fish, soil, and water resources; (3) provide commercial timber that supports local and/or regional sawmills, employment, and economies.

The Proposed Action would implement silvicultural activities, including thinning of commercial trees on 2,826 acres (570 acres of commercial thinning, 1,445 acres of commercial thinning followed by prescribed fire, and 811 acres of commercial thinning followed by machine pile and burning). An estimated 928 acres would be harvested with off-road jammer/tractor, 870 acres would be skyline logged and a helicopter would harvest about 1,028 acres. The Proposed Action would employ silvicultural prescriptions including commercial thin, and thinning of submerchantable trees occurring naturally and within about 846 acres of existing plantations.

Approximately 16.5 miles of road would be decommissioned, of which an estimated 0.7 mile or road would be decommissioned while leaving the existing drainage and road prism sufficient for a future motorized trail. Approximately 16.1 miles of road improvement on National Forest System (NFS) roads 693, 6930, 695B, and 696 would take place. Roughly 2.4 miles of new specified road and approximately 1.1 miles of temporary road would be constructed to facilitate harvest activities. Approximately 3.8 miles of NFS roads 696 and 693B would be realigned to eliminate roads and road segments paralleling within Riparian Conservation Area (RCA) corridors, and 1.3 miles of NFS road 693A would be reconstructed. Fish passage would be restored by replacing or removing the existing culvert on NFS road 693A and two culverts on NFS roads 693 and 695 would be replaced with fish passable structures. All perennial crossings would have up to 300 feet of surface gravel applied on both sides of the crossing on those roads used in conjunction with timber harvest (except for roads to be decommissioned). Twelve helicopter landings would be developed. Except for administrative use, about 20.5 miles of authorized roads would be closed year-round to motorized use after vegetation treatments are complete.

Preliminary Issues: Preliminary concerns with the Proposed Action include potential impacts on water quality and terrestrial wildlife species.

Possible Alternatives to the Proposed Action: One alternative to the Proposed Action that has been discussed thus far is a No Action alternative. Other alternatives will likely be developed as issues are identified and information received.

Decisions to be Made: The Boise National Forest Supervisor will decide the following: (1) Should vegetation be managed within the project area at this time, and if so, which stands should be treated and what silvicultural systems applied? (2) Should roads be built at this time, and if so, how many miles should be built and where should they occur within the project area? (3) Should identified road maintenance activities occur at this time? (4) Should road decommissioning and realignment take place and which roads and how would this happen? (5) What design features, mitigation measures, and/or monitoring should be applied to the project?

DATES: Comments concerning the proposed project and analysis are encouraged and should be postmarked or received within 30 days following publication of this announcement in the Federal Register.

ADDRESSES: Comments should be addressed to the Emmett Ranger District, ATTN: Ann Roseberry, 1805 Highway 16, Room No. 5, Emmett, ID 83617; or sent electronically to comments-intermtn-boise-emmett@fs.fed.us. Electronic comments must be submitted in plain text or another format compatible with Microsoft Word. Comments may also be delivered to the above address during regular business hours of 8 a.m. to 4:30 p.m. Monday-Friday. Comments can also be submitted by phone at 208-365-7000 or fax to 208-365-7037. Comments received in response to this request will be available for public inspection and will be released in their entirety if requested pursuant to the Freedom of Information Act.

FOR FURTHER INFORMATION CONTACT: Further information can be obtained from Ann Roseberry at the address mentioned above or by calling 208-365-7000.

Schedule: Draft Environmental Impact Statement (DEIS), July 2007. Final Environmental Impact Statement (FEIS), December 2007.

SUPPLEMENTARY INFORMATION: The entire project area drains into the Middle Fork Payette River and, although there are no 303(d)/305(b) listed streams within the project area, Scriver Creek drains to a segment of the Middle Fork Payette River, which is currently listed in Section 4a, Impaired Waterbodies with a TMDL complete for sediment (Idaho, State of, 1998a). A TMDL is currently in place and addresses the entire length of the Middle Fork Payette River.

The entire project area lies within Management Area 14 (Lower Middle Fork Payette River), discussed on pages III-254 through III-265 in the Boise National Forest Land and Resource Management Plan (Forest Plan). Several Management Prescription Categories (MPCs) apply within this management area. However, only MPC 5.2 occurs within the project area. The Proposed Action includes management activities within MPC 5.2 only.

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also, environmental objections that could be raised at the DEIS stage but are not raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: Richard A. Smith, Forest Supervisor, Boise National Forest, 1249 South Vinnell Way, Suite 200, Boise, ID 83709.

Dated: January 18, 2007.
Richard A. Smith,
Forest Supervisor.

[FR Doc. 07-285 Filed 1-24-07; 8:45 am]

BILLING CODE 3410-11-M